DEPARTMENT OF ENERGY

Federal Energy Regulatory Commission

[Docket No. RP01-38-001]

Colorado Interstate Gas Company; Notice of Compliance Filing

June 7, 2001.

Take notice that on May 31, 2001, Colorado Interstate Gas Company (CIG) tendered for filing as part of its FERC Gas Tariff, First Revised Volume No. 1, the following tariff sheets with an effective date of July 1, 2001:

Fourth Revised Sheet No. 314

Third Revised Sheet No. 315

Fourth Revised Sheet No. 316

CIG states that the filing is being made in compliance with the Commission's order issued November 9, 2000 at Docket No. RM96-1-014, et at.

CIG states that the filing revises the imbalance neeting and trading tariff provisions in response to the Commission's order in this proceeding.

CIG states that copies of this filing have been served on CIG's jurisdictional customers and public bodies.

Any person desiring to protest said filing should file a protest with the Federal Energy Regulatory Commission, 888 First Street, N.E., Washington, D.C. 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14849 Filed 6-12-01; 8:45 am]

BILLING CODE 6717-01-M